DEPARTMENT OF EDUCATION

[Docket No.: ED-2017-ICCD-0101]

Agency Information Collection Activities; Submission to the Office of Management and Budget for Review and Approval; Comment Request; Middle Grades Longitudinal Study of 2017-18 (MGLS:2017) Main Study Base Year (MS1), Operational Field Test First Follow-Up (OFT2), and Tracking and Recruitment for Main Study First Follow-Up (MS2)

AGENCY: National Center for Education Statistics (NCES), Department of Education (ED).

ACTION: Notice.

SUMMARY: In accordance with the Paperwork Reduction Act of 1995, ED is proposing a revision of an existing information collection.

DATES: Interested persons are invited to submit comments on or before October 12, 2017.

ADDRESSES: To access and review all the documents related to the information collection listed in this notice, please use http://www.regulations.gov by searching the Docket ID number ED-2017-ICCD-0101. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 216-34, Washington, DC 20202-4537.

FOR FURTHER INFORMATION CONTACT: For specific questions related to collection activities, please contact NCES Information Collections at NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Middle Grades Longitudinal Study of 2017-18 (MGLS:2017) Main Study Base Year (MS1), Operational Field Test First Follow-up (OFT2), and Tracking and Recruitment for Main Study First Follow-up (MS2).

OMB Control Number: 1850-0911.

Type of Review: A revision of an existing information collection.

Respondents/Affected Public: Individuals or Households.

Total Estimated Number of Annual Responses: 119,799.

Total Estimated Number of Annual Burden Hours: 61,253.

Abstract: The Middle Grades Longitudinal Study of 2017-18 (MGLS:2017) is the first study conducted by the National Center for Education Statistics (NCES) to follow a nationally representative sample of students as they enter and move through the middle grades (grades 6-8). The data collected through repeated measures of key constructs will provide a rich descriptive picture of the academic experiences and development of students during these critical years and will allow researchers to examine associations between contextual factors and student outcomes. The study will focus on student achievement in mathematics and literacy along with measures of student socioemotional wellbeing and other outcomes. The study will also include a special sample of students with different types of disabilities that will provide descriptive information on their outcomes, educational experiences, and special education services. Main Study Base Year (MS1) data for the MGLS:2017 will be collected from a nationally-representative sample of sixth-grade students beginning in January 2018, with annual follow-ups beginning in January 2019 and in January 2020 when most of the students in the sample will be in grades 7 and 8, respectively. In preparation for the Main Study (MS), the data collection instruments and procedures were field tested. An Item Validation Field Test (IVFT) was conducted in the winter/spring of 2016 to determine the psychometric properties of assessment and survey items and the predictive potential of items so that valid, reliable, and useful assessment and survey instruments could be composed for the Main Study. The MGLS:2017 Operational Field Test (OFT) Base Year (OFT1) data collection was conducted in the winter/spring of 2017. Tracking of students and associated recruitment of schools for the OFT First Follow-up (OFT2) data collection is scheduled to begin in August 2017. The primary purpose of the OFT is to: (a) Obtain information on recruiting, particularly for students in three focal IDEA-defined disability groups: Specific learning disability, autism, and emotional disturbance; (b) obtain a tracking sample that can be used to study mobility patterns in subsequent years; and (c) test protocols, items, and administrative procedures. The MS1 district and school recruitment began in February 2017. The MS1 and OFT2 data collections will begin in January 2018. The Main Study First Follow-up (MS2) tracking and recruitment will begin in September 2018. OMB approved the MGLS:2017 OFT1 data collection, MS1 recruitment, and OFT2 tracking materials and procedures in December 2016 with the latest change request approved in June 2017 (OMB #1850-0911 v.11-15). This request is to conduct: (1) The MS1 data collection; (2) the OFT2 recruitment and data collection; and (3) the tracking of Main Study sample students and associated recruitment of schools in preparation for the MS2 data collection. Due to overlap in timing, the approved MS1 recruitment and OFT2 tracking activities are being carried over in this submission. Therefore, this submission presents the procedures, materials, and associated respondent burden for all activities related to MS1 and OFT2, as well as those related to MS2 tracking and recruitment.

Dated: September 6, 2017.
Kate Mullan,
Acting Director, Information Collection Clearance Division, Office of the Chief Privacy Officer, Office of Management.

[FR Doc. 2017-19229 Filed 9-11-17; 8:45 am]

BILLING CODE 4000-01-P#